DEPARTMENT OF TRANSPORTATION

Pipeline and Hazardous Materials Safety Administration

49 CFR Parts 171, 172, 173, 174, 175, 176, 177, 178, 179, 180

[Docket No. PHMSA-2019-0031 (HM-265A)]

RIN 2137-AF47

Hazardous Materials: Modernizing Regulations To Improve Safety and Efficiency; Extension of Comment Period

AGENCY: Pipeline and Hazardous Materials Safety Administration (PHMSA), Department of Transportation (DOT).

ACTION: Advance notice of proposed rulemaking; Extension of comment period.

SUMMARY: On July 5, 2023, PHMSA published an advance notice of proposed rulemaking, titled “Hazardous Materials: Modernizing Regulations to Improve Safety and Efficiency (HM-265A),” seeking comment of 46 topics related to modernizing the hazardous materials regulations to increase efficiency while maintaining and improving safety. In response to a request for an extension of the comment period submitted by the American Short Line and Regional Railroad Association, PHMSA is extending the comment period for the HM-265A notice for an additional 60 days. Comments to the HM-265A notice will now be due by December 4, 2023.

DATES: The comment period for the proposed rule published July 5, 2023, at 88 FR 43016, is extended. Comments should be received on or before December 4, 2023. To the extent possible, PHMSA will consider late-filed comments.

ADDRESSES: Comments should reference Docket No. PHMSA-2019-0031 (HM-265A) and may be submitted in the following ways:

• Federal eRulemaking Portal: https://www.regulations.gov. Follow the instructions for submitting comments.

• Fax: 1-202-493-2251.

• Mail: Dockets Management System, U.S. Department of Transportation, Dockets Operations, M-30, Ground Floor, Room W12-140, 1200 New Jersey Avenue SE, Washington, DC 20590-0001.

• Hand Delivery: To the Docket Management System: Room W12-140 on the ground floor of the West Building, 1200 New Jersey Avenue SE, Washington, DC 20590, between 9 a.m. and 5 p.m., Monday through Friday, except federal holidays.

Instructions: All submissions must include the Agency name and Docket Number (PHMSA-2019-0031) for this notice at the beginning of the comment. To avoid duplication, please use only one of these four methods. All comments received will be posted without change to the Federal Docket Management System (FDMS) and will include any personal information you provide.

Docket: For access to the dockets to read associated documents or comments received, go to https://www.regulations.gov or DOT's Docket Operations Office (see ADDRESSES).

Privacy Act: In accordance with 5 U.S.C. 553(c), DOT solicits comments from the public to better inform its process. DOT posts these comments without change, including any personal information the commenter provides, to https://www.regulations.gov, as described in the system of records notice (DOT/ALL-14 FDMS), which can be reviewed at https://www.dot.gov/privacy.

Confidential Business Information: Confidential Business Information (CBI) is commercial or financial information that is both customarily and treated as private by its owner. Under the Freedom of Information Act (FOIA; 5 U.S.C. 552), CBI is exempt from public disclosure. If your comments responsive to this ANPRM contain commercial or financial information that is customarily treated as private, that you treat as private, and that is relevant or responsive to this ANPRM, it is important that you clearly designate the submitted comments as CBI. Please mark each page of your submission containing CBI as “PROPIN” for “proprietary information.” Submissions containing CBI should be sent to Eamonn Patrick, U.S. Department of Transportation, 1200 New Jersey Avenue SE, Washington, DC 20590-0001. Any commentary that PHMSA receives that is not specifically designated as CBI will be placed in the public docket for this rulemaking.

FOR FURTHER INFORMATION CONTACT: Eamonn Patrick, Standards and Rulemaking Division, 202-366-8553, Pipeline and Hazardous Materials Safety Administration, U.S. Department of Transportation, 1200 New Jersey Avenue SE, Washington, DC 20590-0001.

SUPPLEMENTARY INFORMATION:

I. Background

On July 5, 2023, PHMSA published the HM-265A advance notice of proposed rulemaking (ANPRM) ¹ which seeks comment on 46 topics related to modernizing the requirements of the Hazardous Materials Regulations (HMR; 49 CFR parts 171 through180) to increase efficiency while maintaining or improving the safety of hazardous materials transportation.

¹ 88 FR 43016.

II. Comment Period Extension

PHMSA initially provided a 90-day comment period for the HM-265A ANPRM, which closes on October 3, 2023. In response to a request to extend the comment period from the American Short Line and Regional Railroad Association (ASLRRA),² PHMSA is extending the comment period for an additional 60 days. ASLRRA requested the extension to allow for additional time to gather feedback on the numerous topics addressed in the ANPRM from its member railroads, the majority of which are small businesses. The comment period will now close on December 4, 2023. This extension provides the public with an additional 60 days and should provide adequate opportunity for the public and stakeholders to submit comments; however, PHMSA may, at its discretion, extend the comment period further if necessary. To the extent possible, PHMSA will also consider late-filed comments.

² ASLRRA's comment may be reviewed at: https://www.regulations.gov/comment/PHMSA-2019-0031-0011.

Issued in Washington, DC, on September 15, 2023, under authority delegated in 49 CFR part 1.97.
William S. Schoonover,
Associate Administrator of Hazardous Materials Safety, Pipeline and Hazardous Materials Safety Administration.

[FR Doc. 2023-20440 Filed 9-20-23; 8:45 am]

BILLING CODE 4910-60-P